DEPARTMENT OF THE INTERIOR

National Park Service

36 CFR Part 7

[NPS-NERI-09778; 4785-LZY]

RIN 1024-AD95

Special Regulations; Areas of the National Park System, New River Gorge National River, Bicycle Routes

AGENCY: National Park Service, Interior.

ACTION: Proposed rule.

SUMMARY: The National Park Service proposes to designate new and existing multi-use trails and administrative roads within the New River Gorge National River as bicycle routes. The rule is necessary because the National Park Service general regulation requires publication of a special regulation to designate routes for bicycle use when such use will be outside of developed areas and special use zones.

DATES: Comments must be received by October 26, 2012.

ADDRESSES: You may submit your comments, identified by Regulation Identifier Number (RIN) 1024-AD95, by any of the following methods:

• Federal eRulemaking Portal: http://www.regulations.gov. Follow the instructions for submitting comments.

• Mail or hand deliver to: Don Striker, Superintendent, Attn: Bicycle Regulation, New River Gorge National River, P.O. Box 246, Glen Jean, WV 25846-0246.

FOR FURTHER INFORMATION CONTACT: Jamie Fields, Outdoor Recreation Planner, New River Gorge National River, P.O. Box 246 (104 Main St), Glen Jean, WV 25846, (304) 465-6527, Jamie_Fields@nps.gov.

SUPPLEMENTARY INFORMATION:

Administrative Background

The New River Gorge National River (NERI or park), a unit of the National Park System located in West Virginia, encompasses approximately 72,000 acres within a 53-mile corridor along the New River, extending from Hawks Nest State Park to Hinton. Congress directed the establishment of NERI as a unit of the National Park System, largely in response to a 20-year grassroots effort organized by local community leaders. In 1978, President Jimmy Carter signed legislation establishing the park, “for the purpose of conserving and interpreting outstanding natural, scenic, and historic values and objects in and around the New River Gorge and preserving as a free-flowing stream an important segment of the New River in West Virginia for the benefit and enjoyment of present and future generations.” Public Law 95-625, sec. 1101, 1978. Subsequent legislation concerning the park states in its findings that NERI “has provided the basis for increased recreation and tourism activities in southern West Virginia due to its nationally recognized status and has greatly contributed to the regional economy.” Public Law 100-534, sec. 2(a)(1)-(2), 1988.

The park's 1982 General Management Plan (1982 GMP) anticipated accommodating an expanding array of recreational pursuits, including off-road bicycling. It states that “[l]evels of use of new or unusual forms of recreation (such as hang gliding, rock climbing, dirt bicycling) will be managed to avoid problems of visitor safety, conflicts between uses, or resource impacts.” Page 18.

The 1982 GMP also anticipated trail construction as funding became available. A subsequent park-wide Trail Development Plan (1993) recommended that the park develop a trail system emphasizing multiple uses, including hiking and bicycling. Both of these plans can be viewed by going to the NERI park planning Web site, http://www.nps.gov/neri/parkmgmt/planning.htm, then following this path: click the link for “Environmental Assessment: Design and Build Two Stacked Loop Hiking and Biking Trail Systems * * *;” click the link to the Document List on the left; click the link to either the “1982 NERI General Management Plan” or the “1993 NERI Trail Development Plan;” then download the documents on their respective pages.

The park began developing a new, updated general management plan in 2005 to respond to changes in park boundaries, land acquisitions, and park and public needs and priorities that had occurred since the 1982 GMP was approved. As a component of this process, and based upon an analysis of the park's enabling legislation and subsequent amendments, administrative history, resources, values and opportunities, NERI staff developed a Foundation Plan that determined that a major purpose of the park is to “provide opportunities for public understanding, appreciation and enjoyment of the park's natural, cultural, scenic and recreational resources and values.” Page 5. As stated in the Foundation Plan, two major reasons that NERI is significant enough to have been designated as a unit of the National Park System are its “diverse and extraordinary scenic resources and views accessible to visitors from the river, rocky overlooks, trails and rural roads throughout the park, and its exceptional opportunities for exploration, adventure, discovery, solitude and community.” Page 6. Other purpose and significance statements that highlight the park's natural and cultural resources can be found in the Foundation Plan, which can be viewed by going to the NERI park planning Web site, http://www.nps.gov/neri/parkmgmt/planning.htm, then following this path: click the link for “General Management Plan;” click the link to the Document List on the left; click the link to the “Draft General Management Plan and EIS/Draft Foundation Plan;” then download the document entitled “Draft Foundation Plan” at the bottom of the page (corrections to the Foundation Plan are located in the “Abbreviated Final General Management Plan * * *,” also in the Document List).

The park's updated 2010/2011 GMP and Environmental Impact Statement (2010/2011 GMP/EIS) process revealed substantial and consistent public support for designating routes in the park as bicycle trails during public scoping (February 2004 through October 2007) and public comment (January 13, 2010 through April 16, 2010).

The 2010/2011 GMP/EIS proposed that, after promulgation of the required special regulations and proper compliance with the National Environmental Policy Act (NEPA), bicycle use would be an appropriate use on new and existing trails. This would include bicycle use in frontcountry zones, in backcountry zones on single track trails, and on a limited basis on a variety of trail types in historic resource, river corridor, and park development zones. The Record of Decision (ROD) for the 2010/2011 GMP/EIS was signed, and the Notice of Availability was published in the Federal Register (77 FR 12877, March 2, 2012). The 2010/2011 GMP/EIS can be viewed by going to the NERI park planning Web site, http://www.nps.gov/neri/parkmgmt/planning.htm, then following this path: click the link for “General Management Plan;” click the link to the Document List on the left; click the link to the “Draft General Management Plan and EIS/Draft Foundation Plan;” then download the documents at the bottom of the page (corrections to the 2010/2011 GMP/EIS are located in the “Abbreviated Final General Management Plan * * *,” also in the Document List).

As a result of the public support for bicycle use expressed early in the 2010/2011 GMP/EIS process, the park developed an Environmental Assessment (Trails EA) to evaluate the impact of the construction of new trails and designation of new and existing park trails as routes for bicycle use. Public scoping for the Trails EA, which occurred from November 10, 2009 until January 15, 2010 (with a public focus group on November 10, 2009 and a public open house on December 8, 2009), confirmed there was overwhelming support for bicycle use on trails. Only one of approximately 400 scoping comments from residents of 32 states was opposed to bicycle use at NERI.

Trail Terminology

The following trail terminology is used in the 2010/2011 GMP/EIS, the Trails EA, and the proposed rule:

• Park administrative roads generally have one-lane (two-track) dirt and gravel surfaces and are open only to National Park Service (NPS) authorized vehicle use. Public access is limited to hiking, in some cases bicycle use, and in a few cases equestrian use.

• Frontcountry trails, located in and near developed areas, have a maximum width of 30 to 36 inches and accommodate moderate use by a range of users (including hikers and bicyclists).

• Backcountry trails in remote areas do not exceed 18 to 24 inches in width and are designed for low use by experienced hikers and, in limited cases, bicyclists.

• Stacked loop trail systems are designed to have interconnected loops of trails, often having a variety of degrees of difficulty, that provide trail users options for varied distances, routes and destinations.

• Connector trails connect destinations or other trails to one another. Also, connector trails are segments of trails that could link together the `Through the Park Trail,' as proposed in the 2010/2011 GMP/EIS. Currently, only some segments of the future `Through the Park Trail' have been established.

• The term branch is synonymous with “creek.” For example, Panther Branch is a creek that is a tributary of the New River.

• The difficulty of negotiating various trail sections in the two stacked loop trail systems is described in the Trails EA by designations of Easiest, More Difficult, and Most Difficult. The Trails EA anticipates that these descriptions will be applied to all other bike trails in the park.

○ Represented by a green circle, the easiest trails may be identified as “Easy” on interpretive kiosks and other publicly available media and are appropriate for bicyclists of a novice skill level. Easiest trails have firm surfaces with few obstacles, average trail grades of five percent or less, maximum grades of ten percent or less and are generally about 30 to 36 inches wide at the active trail tread.

○ Represented by a blue square, the more difficult trails may be designated as “Moderate” on interpretive kiosks and other publicly available media and are trails appropriate for bicyclists of an intermediate skill level. More difficult trails may include obstacles such as steps, stairs, and steep, exposed sections. Average trail grades on more difficult trails are ten percent or less, maximum grades are 15 percent or less, and active tread width is about 20 to 24 inches.

○ Represented by a black diamond, the most difficult trails may be designated as “Difficult” (or sometimes “Strenuous”) on interpretive kiosks and other publicly available media and are appropriate for bicyclists of an expert skill level. Most difficult trails include obstacles such as steps, stairs, and significantly steep or exposed sections, have average grades of 15 percent or less, but can include maximum grades of 15 percent or more. Active tread width of most difficult trails is generally 12 to 18 inches.

Alternatives in Trails EA

The Trails EA presented three alternatives. Alternative A is the No Action Alternative and provided for the continuation of current management practices. Proposals common to both action alternatives (B and C) provided for the designation of some existing park trails and administrative roads as routes open to bicycle use, and for the construction and designation of three new trails for hiking and bicycle use by converting existing roads no longer used for vehicle access into the Mud Turn, Panther Branch Connector and Brooklyn Miner's Connector Trails.

Alternative B, the Preferred Alternative that became the NPS Selected Alternative, also provided for the development and construction of approximately 11 miles of new single track trail, called the Craig Branch Stacked Loop Trail System, and the development and construction of 33 miles of new single track trail, called the Garden Ground Stacked Loop Trail System for hiking and bicycle use.

Alternative C provided for the development and construction of 4.5 miles of single track trail on existing informal routes, such as old logging roads, called the Craig Branch Stacked Loop Trail System, and the development and construction of 45 miles of new single track trail, much of which would also be constructed on existing informal routes, called the Garden Ground Stacked Loop Trail System for bicycle use.

Of the 50 comments received on the Trails EA during the public comment period from January 26, 2011 through March 4, 2011, only two did not support the preferred alternative. One of these comments opposed the new trail development and did not mention bike use, and the other comment opposed bike use in natural areas, but did not specifically address NERI. The other 48 comments, most of which came from the local community of regular park visitors, supported bicycle use in the park.

Following public comment, the NPS selected the preferred alternative B, including the proposals common to both action alternatives. The NPS Northeast Regional Director signed a Finding of No Significant Impact (FONSI) on April 1, 2011. The Trails EA and FONSI can be viewed by going to the NERI park planning Web site, http://www.nps.gov/neri/parkmgmt/planning.htm, then following this path: click the link for “Environmental Assessment: Design and Build Two Stacked Loop Hiking and Biking Trail Systems * * *;” click the link to the Document List on the left; click the link to either the “Environmental Assessment—Design and Build * * *” or the “Finding of No Significant Impact (FONSI);” then download the documents on their respective pages.

Renaming of Trails

Since the FONSI was signed, several trail names in the Nuttallburg area of the park have changed. The Nuttall Mine Trail (also an administrative road) was renamed the Headhouse Trail on public maps. The Nuttallburg Town Connector Trail was renamed the Nuttallburg Town Loop Connector Trail. The Nuttallburg Tipple Trail (also an administrative road) was broken up on public maps into the Tipple Trail and the Seldom Seen Trail. The actual trail/administrative road on the ground remains the same as the Nuttallburg Tipple Trail addressed in the EA and FONSI. The Keeneys Creek Trail has been renamed on some public maps and documents as the Keeneys Creek Rail Trail, but older materials still call it the Keeneys Creek Trail.

Since its construction in summer of 2011, the Craig Branch Stacked Loop Trail System has been renamed the Arrowhead Trail. The proposed rule and future park maps will reflect this change, while prior documents (primarily the Trails EA and FONSI) refer to the Craig Branch Stacked Loop Trail System. Additionally, the Trails EA and FONSI refer to the stacked loop trails in the Craig Branch (now Arrowhead) and Garden Ground areas as “trail systems.” In the proposed rule, they are called the “Arrowhead Trail” and the “Garden Ground Stacked Loop Trail,” and are each treated as individual trails with interconnected segments.

Proposed Rule

Following the Trails EA and FONSI, the proposed rule would authorize bicycle use on two new stacked loop trail systems (the Arrowhead Trail and the Garden Ground Stacked Loop Trail System), three new trails converted from existing roads that are no longer used for vehicle access (the Mud Turn, Panther Branch Connector and Brooklyn Miner's Connector Trails), and 19 existing trails and administrative roads throughout the park. All of the new trails are approved for construction through the FONSI, but only the Arrowhead Trail has been constructed.

Arrowhead and Garden Ground Stacked Loop Trails

The Arrowhead Trail includes 13 miles of easy and more difficult single track trail above the rim of the New River Gorge on rolling, forested terrain. The trail has been built according to the frontcountry trail standards outlined in the park's 2010/2011 GMP/EIS. The Garden Ground Stacked Loop Trail would include approximately 33 miles of more difficult and most difficult single track trail traversing the edge of the plateau and along the bottom of the gorge parallel to the New River, with several challenging rim-to-river connections on the steep, forested slopes. The Garden Ground Stacked Loop Trail segments will be built in accordance with the backcountry trail standards outlined in the park's 2010/2011 GMP/EIS. Both trail systems will connect to other existing park trails and incorporate sustainable design and construction elements that take multi-use (hike and bike) social and physical issues into account while also mitigating the impacts of hiking and bicycle use. As new trails are constructed, old logging roads and recreational vehicle routes on adjacent lands will be rehabilitated and invasive plant species will be treated or removed.

Three New Trails Converted From Roads

The proposed rule would designate three new trails that would be constructed by converting existing, unused roads into single track, multi-use (hike and bike) trails. The Mud Turn Trail would be located on an abandoned road that connects the rim at Grandview to the river along Glade Creek Road by running along Mill Creek for approximately 2.75 miles. The Panther Branch Connector Trail, approximately three miles long between Glade Creek and Panther Branch, would be located on an abandoned state road and on a short section of old rail bed that was abandoned in the 1940s. The Brooklyn Miner's Connector Trail, less than one mile long, would be located on segments of an abandoned coal road connecting the lower tipple to the upper mine bench of the Brooklyn Mine area. These proposed road-to-trail conversions would be built to the backcountry trail standards proposed in the park's 2010/2011 GMP/EIS and incorporate the same sustainable design and construction principles used in the Arrowhead Trail.

Designation of Existing Trails and Administrative Roads for Bicycle Use

The proposed rule would designate 19 existing park trails and administrative roads, approximately 52 miles in total, to allow bicycle use. These are predominantly remnants of roads and railroad beds existing before the park was established or before the park had acquired land within its boundaries. Created primarily for logging and mining, some tracks were later developed or used for recreational purposes by local people on foot, and by off-road vehicle, motorcycle or bicycle. Once the park was established and the NPS acquired the land, these routes were adaptively reused as trails and administrative roads. Additional trails have since been constructed by NPS, most notably the Fayetteville Trail complex, which includes the backcountry Fayetteville Trail, the Park Loop, and the Timber Ridge Trail.

Trails To Be Designated for Bicycle Use

The proposed rule would authorize bicycle use on the routes listed and described in the tables below. Trails are labeled as Frontcountry, Backcountry, or Administrative Road in accordance with the management zones listed in the 2010/2011 GMP/EIS and the terms defined in the Trails EA. Trails that are only partially located on administrative roads are noted where appropriate.

Trail name | Mi. | Existing or new | Trail standard
Proposed Routes for Bicycle Use—Stacked Loop Trails
Arrowhead Trail | 13.0 | New, Constructed | Frontcountry.
Garden Ground Stacked Loop Trail | 33.0 | New, Constructed | Backcountry.
Proposed Routes for Bicycle Use—Trails Converted From Roads
Mud Turn Trail | 2.8 | New | Backcountry.
Panther Branch Connector Trail | 3.0 | New | Backcountry.
Brooklyn Miner's Connector Trail | 0.8 | New | Backcountry.
Proposed Routes for Bicycle Use—Existing Trails and Administrative Roads
Hawks Nest Connector Trail | 3.5 | Existing | Frontcountry.
Fayetteville Trail | 4.0 | Existing | Backcountry.
Park Loop Trail | 1.1 | Existing | Backcountry.
Timber Ridge Trail | 1.0 | Existing | Backcountry.
Kaymoor Trail | 8.6 | Existing | Part Frontcountry/Part Administrative Road.
Craig Branch Trail | 2.4 | Existing | Administrative Road.
Long Point Trail (except the last 0.2 mi closest to the Long Point vista) | 1.4 | Existing | Frontcountry.
Keeneys Creek Rail Trail | 3.0 | Existing | Administrative Road.
Headhouse Trail | 0.5 | Existing | Administrative Road.
Tipple Trail | 0.5 | Existing | Administrative Road.
Seldom Seen Trail | 0.3 | Existing | Administrative Road.
Nuttallburg Town Loop Connector Trail | 0.3 | Existing | Frontcountry.
Brooklyn Mine Trail | 2.7 | Existing | Administrative Road.
Southside Trail | 7.0 | Existing | Part Frontcountry/Part Administrative Road.
Rend Trail | 3.4 | Existing | Administrative Road.
Stone Cliff Trail | 2.7 | Existing | Administrative Road.
Terry Top Trail | 1.7 | Existing | Administrative Road.
Little Laurel Trail | 2.6 | Existing | Administrative Road.
Glade Creek Trail | 5.6 | Existing | Part Frontcountry/Part Administrative Road.

Maps of these designated routes are available in the office of the Superintendent and may also be viewed in the Trails EA, which can be found by going to the NERI park planning Web site, http://www.nps.gov/neri/parkmgmt/planning.htm, then following this path: click the link for “Environmental Assessment: Design and Build Two Stacked Loop Hiking and Biking Trail Systems * * * ;” click the link to the Document List on the left; click the link to the “Environmental Assessment—Design and Build * * *;” then download the document at the bottom of the page. A park map showing existing trails and administrative roads can also be found by downloading the NERI Trails Guide from the following Web site: http://www.nps.gov/neri/planyourvisit/trails-guide.htm.

Compliance With Other Laws, Executive Orders, and Department Policy Regulatory Planning and Review (Executive Orders 12866 and 13563)

Executive Order 12866 provides that the Office of Information and Regulatory Affairs) will review all significant rules. The Office of Information and Regulatory Affairs has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (RFA)

This rule will not have a significant economic effect on a substantial number of small entities under the RFA (5 U.S.C. 601 et seq.). This conclusion is based on the results of a cost/benefit and regulatory flexibility threshold analysis available for review on the NERI park planning Web site, http://www.nps.gov/neri/parkmgmt/planning.htm. The rule would not regulate small business. The rule would likely increase visitation at the park, which could generate benefits for small businesses in the local community through increased spending for goods and services.

Small Business Regulatory Enforcement Fairness Act (SBREFA)

This rule is not a major rule under 5 U.S.C. 804(2), the SBREFA. This rule:

(a) Does not have an annual effect on the economy of $100 million or more. The July 2011 NPS economic analysis estimated that the addition of more than 100 miles of new trails will significantly improve NERI's attractiveness to bicyclists and thus drive additional economic activity.

(b) Will not cause a major increase in costs or prices for consumers, individual industries, Federal, State, or local government agencies, or geographic regions. The rule will not impose restrictions on local businesses in the form of fees, training, recordkeeping, or other measures that would increase costs.

(c) Does not have significant adverse effects on competition, employment, investment, productivity, innovation, or the ability of U.S.-based enterprises to compete with foreign-based enterprises.

Unfunded Mandates Reform Act (UMRA)

This rule does not impose an unfunded mandate on State, local, or tribal governments or the private sector of more than $100 million per year. The rule does not have a significant or unique effect on State, local or tribal governments or the private sector. The rule addresses public use of national park lands, and imposes no requirements on other agencies or governments. A statement containing the information required by the UMRA (2 U.S.C. 1531 et seq.) is not required.

Takings (Executive Order 12630)

Under the criteria in section 2 of Executive Order 12630, this rule does not have significant takings implications. This rule only designates bicycle routes and manages bicycle use on those routes within the boundaries of the New River National River. A takings implication assessment is not required.

Federalism (Executive Order 13132)

Under the criteria in section 1 of Executive Order 13132, this rule does not have sufficient federalism implications to warrant the preparation of a Federalism summary impact statement. This rule only effects use of NPS administered lands. A Federalism summary impact statement is not required.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian tribes (Executive Order 13175 and Department Policy)

The Department of the Interior strives to strengthen its government-to-government relationship with Indian tribes through a commitment to consultation with Indian tribes and recognition of their right to self-governance and tribal sovereignty. We have evaluated this rule under the Department's consultation policy and under the criteria in Executive Order 13175 and have determined that it has no substantial direct effects on federally recognized Indian tribes and that consultation under the Department's tribal consultation policy is not required.

Throughout numerous past and current park planning processes, no expression of affiliation has been asserted with NERI by any tribal governments or organizations. Tribes that could potentially be affiliated were contacted individually during the development of the 2010/2011 GMP/EIS and no response was received. Copies of the Trails EA were sent to 14 Native American tribes who were identified as possibly having some interest in the park. The Chief of the Remnant Yuchi Nation was the only tribal representative to respond; he indicated that he was grateful to be acknowledged, that the NPS should continue the excellent work, and that he had no formal questions at this time.

Paperwork Reduction Act (PRA)

This rule does not contain information collection requirements, and a submission under the PRA is not required.

National Environmental Policy Act (NEPA)

We have prepared environmental assessments to determine whether this rule would have a significant impact on the quality of the human environment under the NEPA. This rule does not constitute a major Federal action significantly affecting the quality of the human environment. A detailed statement under the NEPA is not required because the NPS reached a FONSI for the Selected Alternative. The Trails EA, the FONSI and other relevant documents and records of the public process may be viewed by going to the NERI park planning Web site, http://www.nps.gov/neri/parkmgmt/planning.htm.

Effects on the Energy Supply (Executive Order 13211)

This rule is not a significant energy action under the definition in Executive Order 13211. A statement of Energy Effects is not required.

Clarity of This Regulation

We are required by Executive Orders 12866 (section 1 (b)(12)), 12988 (section 3(b)(1)(B)), and 13563 (section 1(a)), and by the Presidential Memorandum of June 1, 1998, to write all rules in plain language. This means that each rule we publish must:

(a) Be logically organized;

(b) Use the active voice to address readers directly;

(c) Use common, everyday words and clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

Public Availability of Comments

Before including your address, phone number, email address, or other personal identifying information in your comment, you should be aware that your entire comment—including your personal identifying information—may be made publicly available at any time. While you can ask us in your comment to withhold your personal identifying information from public review, we cannot guarantee that we will be able to do so.

Drafting Information

The primary authors of this proposed rule were Jamie Fields, New River Gorge National River; Joshua Nadas, NPS Conservation and Outdoor Recreation Programs; and Justin Hollimon, Regulations and Special Park Uses, National Park Service, Washington, DC.

List of Subjects in 36 CFR Part 7

National parks, Reporting and recordkeeping requirements.

In consideration of the foregoing, the NPS proposes to amend 36 CFR part 7 as follows:

PART 7—SPECIAL REGULATIONS, AREAS OF THE NATIONAL PARK SYSTEM

1. The authority for part 7 continues to read as follows:

Authority: 16 U.S.C. 1, 3, 9a, 462(k); Sec. 7.96 also issued under DC Code 10-137 (2001) and DC Code 50-2201 (2001).

2. In § 7.89 revise paragraph (b) to read as follows:

§ 7.89 New River Gorge National River.

* * * * *

(b) Bicycling (1) Where may I ride a bicycle within New River Gorge National River? Bicycle use is permitted on park roads, in parking areas, and on routes designated within the park in accordance with § 4.30 of this chapter. The following table lists administrative roads and trails designated for bicycle use:

Administrative Roads and Trails Designated for Bicycle Use—North to South
Hawks Nest Connector Trail | Keeneys Creek Rail Trail | Rend Trail.
Fayetteville Trail | Headhouse Trail | Stone Cliff Trail.
Park Loop Trail | Tipple Trail | Terry Top Trail.
Timber Ridge Trail | Seldom Seen Trail | Garden Ground Stacked Loop Trail.
Kaymoor Trail | Nuttallburg Town Loop Connector Trail | Little Laurel Trail.
Craig Branch Trail | Brooklyn Mine Trail | Mud Turn Trail.
Arrowhead Trail | Brooklyn Miner's Connector Trail | Glade Creek Trail.
Long Point Trail (except 0.2 miles closest to Long Point Vista) | Southside Trail | Panther Branch Connector Trail.

(2) How will I know where the trails designated for bicycle use are located in the park? Designated trails are identified on maps located in the Superintendent's office, at interpretive kiosks, and on the park's Web site. Trails will also be posted at trailheads and other appropriate locations.

(3) What requirements must I meet to ride a bicycle within New River Gorge National River? (i) In addition to the applicable provisions in 36 CFR part 4, all bicyclists must yield to other trail users in the following manner:

(A) A bicyclist must yield to an equestrian;

(B) A bicyclist must yield to a pedestrian; and

(C) A bicyclist travelling downhill must yield to a bicyclist travelling uphill.

(ii) Yielding the right of way requires slowing down to a safe speed, being prepared to stop, establishing communication, and passing safely.

(iii) Failure to yield is prohibited.

(4) How will the Superintendent manage the designated bicycle routes? The Superintendent may open or close designated bicycle routes, or portions thereof, or impose conditions or restrictions for bicycle use after taking into consideration public health and safety, natural and cultural resource protection, and other management activities and objectives.

(i) The Superintendent will provide public notice of all such actions through one or more of the methods listed in § 1.7 of this chapter.

(ii) Violating a closure, condition, or restriction is prohibited.

Dated: August 17, 2012.
Rachel Jacobson,
Principal Deputy Assistant Secretary for Fish and Wildlife and Parks.

[FR Doc. 2012-20898 Filed 8-24-12; 8:45 am]

BILLING CODE 4310-YP-P